DEPARTMENT OF THE INTERIOR

Fish and Wildlife Service

50 CFR Part 17

RIN 1018-AT44

Endangered and Threatened Wildlife and Plants; Proposed Designation of Critical Habitat for the Santa Barbara County Distinct Population Segment of the California Tiger Salamander

AGENCY: Fish and Wildlife Service, Interior.

ACTION: Proposed rule; reopening of comment period and public hearing announcement.

SUMMARY: We, the U.S. Fish and Wildlife Service (Service) give notice of reopening the public comment period and scheduling one public hearing on the proposed critical habitat designation for the Santa Barbara County Distinct Vertebrate Population Segment (DPS) of the California tiger salamander (Ambystoma californiense).

DATES: The comment period for this proposal now closes on May 28, 2004. Any comments received by the closing date will be considered in the final decision on this proposal. One public hearing will be held on May 11, 2004, in Santa Maria from 1 p.m. to 3 p.m., and from 6 p.m. to 8 p.m.

ADDRESSES: The public hearing in Santa Maria will be held at the Radisson Hotel, 3455 Skyway Drive, Santa Maria CA 93455.

Written comments and materials may be submitted to us by any one of the following methods:

1. You may submit written comments and information to the Field Supervisor, U.S. Fish and Wildlife Service, Ventura Fish and Wildlife Office, 2493 Portola Road, Suite B, Ventura, CA 93003, or by facsimile 805/644-3958.

2. You may hand-deliver written comments to our Ventura Office, at the address given above.

3. You may send comments by electronic mail (e-mail) to fw1CTSCH@r1.fws.gov.

Comments and materials received, as well as supporting documentation used in the preparation of this proposed rule, will be available for public inspection, by appointment, during normal business hours at the Ventura Fish and Wildlife Office, at address given above (telephone 805/644-1766).

FOR FURTHER INFORMATION CONTACT: Carl Benz, at the above address (telephone 805/644-1766; facsimile 805/644-3958).

SUPPLEMENTARY INFORMATION:

Public Comments Solicited

We will accept written comments and information during this reopened comment period. We solicit comments on the original proposed critical habitat designation (January 22, 2004, 69 FR 3064). Of particular interest to us are comments on the criteria used to identify critical habitat, the special management considerations, and additional suggestions regarding the primary constituent elements identified for the California tiger salamander in this proposed rule. Please feel free to suggest other sources of information relevant to this species of which you may be aware.

An analysis of the economic impacts of proposing critical habitat for the California tiger salamander is being prepared. We will announce the availability of the draft economic analysis as soon as it is completed, at which time we will seek public review and comment. At that time, copies of the draft economic analysis will be available for downloading from the Internet at http://ventura.fws.gov, or by contacting the Ventura Fish and Wildlife Office directly (see ADDRESSES section).

Please submit electronic comments in an ASCII file format and avoid the use of special characters and encryption. Please also include “ttn: RIN 1018-AT44” and your name and return address in your e-mail message. If you do not receive a confirmation from the system that we have received your e-mail message, please contact the Ventura Fish and Wildlife Office (see ADDRESSES section and For Further Information Contact). In the event that our internet connection is not functional, please submit your comments by the alternate methods mentioned above.

Our practice is to make comments, including names and home addresses of respondents, available for public review during regular business hours. Individual respondents may request that we withhold their home addresses from the rulemaking record, which we will honor to the extent allowable by law. In some circumstances, we would withhold from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Background

On January 22, 2004, we published in the Federal Register a proposed critical habitat rule for the Santa Barbara DPS of California tiger salamander listed under the Endangered Species Act of 1973, as amended (Act) (16 U.S.C. 1531 et seq.). Six critical habitat units, totaling approximately 13,920 acres (5,633 hectares), are proposed for designation for the Santa Barbara County DPS of California tiger salamander. The proposed critical habitat is located in Santa Barbara County, CA. For locations of these proposed units, please consult the proposed rule (69 FR 3064).

The comment period for the proposed critical habitat designation originally closed on March 22, 2004. We are now announcing one public hearing and are reopening the comment period to allow all interested parties to submit oral or written comments on the proposal. We are seeking comments or suggestions from the public, other concerned agencies, the scientific community, industry, or any other interested parties concerning the proposed rule. Comments already submitted on the proposed rule need not be resubmitted as they will be fully considered in the final determination.

Section 4(b)(5)(E) of the Act requires that a public hearing be held if it is requested within 45 days of the publication of a proposed rule. We received numerous requests for an extension of the comment period and for a public hearing. In response to these requests, we are reopening the public comment period and holding a public hearing on the date and at the address described in the DATES and ADDRESSES section.

Anyone wishing to make an oral statement for the record is encouraged to provide a written copy of their statement and present it to us at the hearing. In the event there is a large attendance, the time allotted for oral statements may be limited. Oral and written statements receive equal consideration. There are no limits to the length of written comments presented at the hearing or mailed to us.

Persons needing reasonable accommodations in order to attend and participate in the public hearing should contact Patti Carroll, Region 1, at 503/231-2080 as soon as possible. In order to allow sufficient time to process requests, please call no later than 1 week before the hearing date.

Information regarding this proposal is available in alternative formats upon request.

Author

The primary author of this notice is Katie Drexhage (see ADDRESSES section).

Authority: The authority for this action is the Endangered Species Act of 1973 (16 U.S.C. 1531 et seq.).

Dated: April 5, 2004.
Craig Manson,
Assistant Secretary for Fish and Wildlife and Parks.

[FR Doc. 04-8328 Filed 4-12-04; 8:45 am]

BILLING CODE 4310-55-U